DEPARTMENT OF TRANSPORTATION

Federal Aviation Administration

[Summary Notice No. PE-2001-67]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C., on August 30, 2001.
Donald P. Bryne,
Assistant Chief Counsel for Regulations.

Dispositions of Petitions

Docket No.: FAA-2001-10167.

Petitioner: Cumberland Air Charter.

Section of 14 CFR Affected: 14 CFR 135.143(c)(2).

Description of Relief Sought/Disposition: To permit CAC to operate certain aircraft under part 135 without a TSO-C112 (Mode S) transponder installed in the aircraft.

Grant, 08/10/2001, Exemption No. 7591

Docket No.: FAA-2001-10072.

Petitioner: Bay Air Charter, Inc.

Section of 14 CFR Affected: 14 CFR 135.143(c)(2).

Description of Relief Sought/Disposition: To permit BACI to operate certain aircraft under part 135 without a TSO-C112 (Mode S) transponder installed in the aircraft.

Grant, 08/10/2001, Exemption No. 7592

Docket No.: FAA-2001-10091.

Petitioner: Mr. Lloyd E. Swenson.

Section of 14 CFR Affected: 14 CFR 91.109(a) and (b)(3).

Description of Relief Sought/Disposition: To permit Mr. Swenson to conduct certain flight instruction and simulated instrument flights to meet recent instrument experience requirements in certain Beechcraft airplanes equipped with a functioning throwover control wheel in place of functioning dual controls.

Grant, 08/10/2001, Exemption No. 7593

Docket No.: FAA-2001-10268.

Petitioner: Phillipsburg Aviation.

Section of 14 CFR Affected: 14 CFR 135.251, 135.255, 135.353, and appendixes I and J to part 121.

Description of Relief Sought/Disposition: To permit Phillipsburg Aviation to conduct local sightseeing flights into the vicinity of Phillipsburg, Ohio, for its 6th benefit for the Special Wish Foundation during August 2001 for compensation or hire, without complying with certain anti-drug and alcohol misuse prevention requirements of part 135.

Grant, 08/10/2001, Exemption No. 7594

Docket No.: FAA-2001-9791 (previously Docket No. 27306).

Petitioner: NockAir Helicopter, Inc.

Section of 14 CFR Affected: 14 CFR 133.43(a) and (b).

Description of Relief Sought/Disposition: To permit Nockair to use its helicopters to perform aerial trapeze acts without using an approved external-load attachment or quick-release device for carrying a person on a trapeze bar.

Grant, 08/03/2001, Exemption No. 6685B

Docket No.: FAA-2001-9563.

Petitioner: Mr. Michael Kulbacki.

Section of 14 CFR Affected: 14 CFR 61.123(a) and 61.183(a).

Description of Relief Sought/Disposition: To permit Mr. Kulbacki to be eligible for a commercial pilot certificate and a flight instructor certificate or rating at 17 years of age instead of 18 years of age.

Denied, 08/03/2001, Exemption No. 7585

Docket No.: FAA-2001-9619.

Petitioner: Dassault Falcon Jet Corporation.

Section of 14 CFR Affected: 14 CFR 25.813(e).

Description of Relief Sought/Disposition: To permit DFJC to install interior doors between passenger compartments, on the Dassault Falcon Jet airplane models Mystere Falcon 900 and Falcon 900EX.

Grant, 08/10/2001, Exemption No. 7590

Docket No.: 29891.

Petitioner: Houston Helicopters, Inc.

Section of 14 CFR Affected: 14 CFR 135.152(a).

Description of Relief Sought/Disposition: To permit HHI to operate its 3 Bell 212 helicopters (Registration Nos. N8145Y, N8223V. and N8224V) under part 135 without those helicopters being equipped with an approved digital flight data recorder.

Grant, 08/08/2001, Exemption No. 7588

Docket No.: 29675.

Petitioner: OMNI Energy Services Corp. dba OMNI Aviation Services L.L.C.

Section of 14 CFR Affected: 14 CFR 135.152(a).

Description of Relief Sought/Disposition: To permit OMNI to operate one Bell 212 helicopter (Registration No. N250MH, Serial No. 30519) under part 135 without an approved digital flight data recorder installed on the helicopter.

Grant, 08/08/2001, Exemption No. 7587

Docket No.: FAA-2001-9328.

Petitioner: Era Aviation Inc.

Section of 14 CFR Affected: 14 CFR 135.152(a).

Description of Relief Sought/Disposition: To permit ERA to operate its 4 Bell 212 helicopters (Registration Nos. N399EH, N361EH, N362EH, and N522EH; and Serial Nos. 30810, 30554, 30853, and 31199, respectively) under part 135 without those helicopters being equipped with an approved digital flight data recorder.

Grant, 08/08/2001, Exemption No. 7589

Docket No.: FAA-2001-9321.

Petitioner: Aviation Ventures, Inc. dab Vision Air.

Section of 14 CFR Affected: 14 CFR 135.153(a) and 135.180(a).

Description of Relief Sought/Disposition: To permit Vision Air to conduct part 135 on-demand operations in Malaysia in its Dornier 228-202K and Dornier 228-212 airplanes without (1) an approved ground proximity warning system, and (2) and approved traffic alert and collision avoidance system.

Grant, 08/08/2001, Exemption No. 7586

[FR Doc. 01-22254 Filed 9-5-01; 8:45 am]

BILLING CODE 4910-13-M